DEPARTMENT OF ENERGY

Federal Energy Regulatory Commission

[Docket No. EL17-32-000]

Old Dominion Electric Cooperative and Direct Energy Business, LLC on Behalf of Itself and Its Affiliate, Direct Energy Business Marketing, LLC and American Municipal Power, Inc. v. PJM Interconnection, L.L.C.; Notice of Complaint

Take notice that on December 23, 2016, pursuant to sections 206 and 306 of the Federal Power Act, 16 U.S.C. 824e, 825e, and 825h, and Rule 206 of the Federal Energy Regulatory Commission's (Commission) Rules of Practice and Procedure, 18 CFR 385.206, Old Dominion Electric Cooperative (ODEC) and Direct Energy Business, LLC, on behalf of itself and its affiliate, Direct Energy Business Marketing, LLC, and American Municipal Power, Inc. (collectively, Complainants) filed a formal complaint against PJM Interconnection, L.L.C. (PJM or Respondent) alleging, among other things, that certain provisions in the Respondent's Open Access Transmission Tariff and the Reliability Assurance Agreement among Load Serving Entities in the PJM Region, regarding Seasonal Capacity Performance Resources in the RPM auctions, are no longer just and reasonable, all as more fully explained in the complaint.

Complainants certifies that copies of the complaint were served on the contacts for Respondent as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on January 18, 2017.

Dated: December 28, 2016.
Nathaniel J. Davis, Sr.,
Deputy Secretary.

[FR Doc. 2016-32023 Filed 1-4-17; 8:45 am]

BILLING CODE 6717-01-P